DEPARTMENT OF COMMERCE

National Oceanic and Atmospheric Administration

[I.D. 112304D]

Endangered Species; File No. 1514

AGENCY: National Marine Fisheries Service (NMFS), National Oceanic and Atmospheric Administration (NOAA), Commerce.

ACTION: Receipt of application.

SUMMARY: Notice is hereby given that Pacific Islands Regional Office, National Marine Fisheries Service, 1601 Kapiolani Blvd., Ste. 1110, Honolulu, HI 96814, has applied in due form for a permit to take green (Chelonia mydas), hawksbill (Eretmochelys imbricata), leatherback (Dermochelys coriacea), olive ridley (Lepidochelys olivacea), and loggerhead (Caretta caretta) sea turtles for purposes of scientific research.

DATES: Written, telefaxed, or e-mail comments must be received on or before December 30, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Southwest Region, NMFS, 501 West Ocean Blvd., Suite 4200, Long Beach, CA 90802-4213; phone (562)980-4020; fax (562)980-4027.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1514.

FOR FURTHER INFORMATION CONTACT: Patrick Opay or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The proposed research would occur in the Pacific Ocean and provide data on the at sea distribution and movement patterns of green, hawksbill, leatherback, olive ridley, and loggerhead sea turtles. Researchers would also use pop-up satellite tags (PSATs) to investigate post-release mortality of hard-shelled turtles that have been hooked or entangled by longline gear. Data from the PSATs would be used to compare the behavior of longline caught turtles to the known behavior of turtles that have not been caught in fishing gear (controls) to investigate potential effects of the fishery interactions on turtle behavior patterns after release. Seven green, 34 leatherback, 21 loggerhead, and 42 olive ridley sea turtles that have been captured in the Hawaii longline fishery would be measured, photographed, tissue sampled, flipper tagged, and released, or salvaged (if dead). The hard-shelled species would also have a PSAT attached to their shell.

An additional six (combined total of all species) hawksbill, olive ridley, loggerhead, and green sea turtles captured in the American Samoa longline fishery would be measured, photographed, tissue sampled, flipper tagged, PSAT tagged and released, or salvaged (if dead). One leatherback captured in this fishery would also be measured, photographed, tissue sampled, flipper tagged, and released, or salvaged (if dead). All turtles would have been captured in the longline fishery and coverage for the incidental capture of these turtles would be provided under the incidental take statement of the 2004 Biological Opinion for the Western Pelagics Fishery Management Plan. The applicant requests a five year permit.

Dated: November 24, 2004.
Tammy C. Adams,
Acting Chief, Permits, Conservation and Education Division, Office of Protected Resources, National Marine Fisheries Service.

[FR Doc. 04-26406 Filed 11-29-04; 8:45 am]

BILLING CODE 3510-22-S